DEPARTMENT OF ENERGY

Federal Energy Regulatory Commission

[Project/Docket No. 137-227]

Pacific Gas and Electric Company; Notice of Reasonable Period of Time for Water Quality Certification Application

On February 12, 2025, California State Water Resources Control Board submitted to the Federal Energy Regulatory Commission (Commission) notice that it received a request for a Clean Water Act section 401(a)(1) water quality certification as defined in 40 CFR 121.5, from Pacific Gas and Electric Company, in conjunction with the above captioned project on January 21, 2025. Pursuant to section 4.201(e) of the Commission's regulations,¹ we hereby notify the California State Water Resources Control Board of the following:

¹ 18 CFR 4.201(e).

Date of Receipt of the Certification Request: January 21, 2025.

Reasonable Period of Time to Act on the Certification Request: One year (January 21, 2026).

If California State Water Resources Control Board fails or refuses to act on the water quality certification request on or before the above date, then the certifying authority is deemed waived pursuant to section 401(a)(1) of the Clean Water Act, 33 U.S.C. 1341(a)(1).

Dated: February 18, 2025.
Debbie-Anne A. Reese,
Secretary.

[FR Doc. 2025-03005 Filed 2-21-25; 8:45 am]

BILLING CODE 6717-01-P